DEPARTMENT OF COMMERCE

National Oceanic and Atmospheric Administration

RIN 0648-XG648

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a week-long work session that is open to the public.

DATES: The GMT meeting will be held Monday, January 14, 2019 through Friday, January 18, 2019. The GMT meeting will begin on Monday, January 14, from 1 p.m. until business for the day is completed. The meeting will reconvene Tuesday, January 15 through Friday, January 18, from 8:30 a.m. until business for each day has been completed.

ADDRESSES: The meeting will be held at the Pacific Council Office, Large Conference Room, 7700 NE Ambassador Place, Suite 101, Portland, OR 97220-1384.

FOR FURTHER INFORMATION CONTACT: Mr. Todd Phillips, Pacific Council; phone: (503) 820-2426.

SUPPLEMENTARY INFORMATION: The primary purpose of this week-long work session is for the GMT to prepare for 2019 Pacific Council meetings. Specific agenda items will include: A detailed review of 2019/20 harvest specifications and management measure process, planning for the 2021/22 harvest specifications and management measure process, meeting with representatives from the Pacific Council's Ecosystem Workgroup; consideration of the groundfish workload prioritization process and Council Operating Procedure 9, Endangered Species Act salmon mitigation measures, and GMT chair/vice chair elections. The GMT may also address work assigned by the Pacific Council that relates to groundfish management, such as: A methodology overview of Sablefish Management and Trawl Allocation Attainment Committee analysis needs and impact analysis of proposed changes to the directed Pacific halibut fishery on groundfish. A detailed agenda will be available on the Pacific Council's website prior to the meeting.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2411, at least 10 business days prior to the meeting date.

Dated: December 10, 2018.
Tracey L. Thompson,
Acting Deputy Director, Office of Sustainable Fisheries, National Marine Fisheries Service.

[FR Doc. 2018-26982 Filed 12-12-18; 8:45 am]

BILLING CODE 3510-22-P